DEPARTMENT OF DEFENSE

Department of the Army

[Docket ID: USA-2014-0002]

Privacy Act of 1974; System of Records

AGENCY: Department of the Army, DoD.

ACTION: Notice to add a new System of Records.

SUMMARY: The Department of the Army proposes to add a new system of records in its inventory of record systems subject to the Privacy Act of 1974, as amended. This system will provide commanders and personnel specialists with near real time accountability data for military, civilian, and contractor personnel in a deployed theater. The information collected establishes and maintains a central personnel records repository for personnel accountability, strength management reporting, and compliance with deployment health policies and readiness reporting.

DATES: Comments will be accepted on or before March 28, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22325-3905 or by calling (703) 428-6185.

SUPPLEMENTARY INFORMATION: The Department of the Army notices for systems of records subject to the Privacy Act of 1974 (5 U.S.C. 552a), as amended, have been published in the Federal Register and are available from the address in FOR FURTHER INFORMATION CONTACT or the Defense Privacy and Civil Liberties Office Web site at http://dpclo.defense.gov/.

The proposed system report, as required by 5 U.S.C. 552a(r) of the Privacy Act of 1974, as amended, was submitted on February 21, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 21, 2014.
Aaron Siegel,
Alternate OSD Federal Register Liaison Officer, Department of Defense.

A0715-9a G-1

System name:

Deployed Theater Accountability System

System location:

For location of systems, contact the Product Director, Army Human Resource System, 200 Stovall Street, Room 8N09, ATTN: SFAE-PS-IP-HR, Alexandria, VA 22332-6202.

Categories of individuals covered by the system:

Deployed Army military personnel (Active, Reserve, National Guard), DoD civilians, and DoD contractors.

Categories of records in the system:

Deployed Army military:

Name, citizenship, race/ethnicity, gender, marital status, birth date, religious preference, DoD ID Number, Social Security Number (SSN), security clearance, deployment location information, and medical information as outlined in DoD Instruction 6490.03, Deployment Health.

Deployed DoD civilians:

Name, citizenship, race/ethnicity, gender, marital status, birth date, religious preference, DoD ID Number, SSN, security clearance, deployment location information, and medical information as outlined in DoD Instruction 6490.03, Deployment Health.

Deployed contractors:

Name, citizenship, Letter of Authorization, Contract Number, Task Order Number, contractor identifier, DoD ID Number, Contracting Officer's Representative name, deployment location information.

Authority for maintenance of the system:

10 U.S.C. 3013, Secretary of the Army; 10 U.S.C. 1074, Medical Care and Tracking and Health Surveillance in the Theater of Operation; 10 U.S.C. 991, Management of deployments of members and measurement and data collection of unit operating and personnel tempo; 10 U.S.C. 482, Quarterly reports: personnel and unit readiness; 10 U.S.C. 165, Combatant commands: administration and support; 10 U.S.C. 166, Combatant commands: budget proposals; DoD Directive 1000.25, DoD Personnel Identity Protection (PIP) Program; DoD Directive 1400.31, DoD Civilian Work Force Contingency and Emergency Planning and Execution; DoD Instruction 1400.32, DoD Civilian Work Force Contingency and Emergency Planning Guidelines and Procedures; DoD Directive 1404.10, DoD Civilian Expeditionary Workforce; DoD Instruction 3020.41, Operational Contract Support; DoD Instruction 3020.50, Private Security Contractors (PSCs) Operating in Contingency Operations, Humanitarian or Peace Operations, or Other Military Operations or Exercises; DoD 6025.19, Medical Readiness; DoD Instruction 6490.03, Deployment Health; Chairman of the Joint Chiefs of Staff Manual 3150.13C, Joint Reporting Structure—Personnel Manual; Army Regulation 715-9, Operational Contract Support Planning and Management; and E.O. 9397 (SSN), as amended.

Purpose(s):

The Deployed Theater Accountability System (DTAS) is an Army system that provides commanders and personnel specialists with near real time accountability data for military, civilian, and contractor personnel in a deployed theater. The information collected establishes and maintains a central personnel records repository for personnel accountability, strength management reporting, and compliance with deployment health policies and readiness reporting.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices may apply to this system.

This system of records contains individually identifiable health information. The DoD Health Information Privacy Regulation (DoD 6025.18-R), issued pursuant to the Health Insurance Portability and Accountability Act of 1996, applies to most such health information. DoD 6025.18-R may place additional procedural requirements on the uses and disclosures of such information beyond those found in the Privacy Act of 1974, as amended, or mentioned in this system of records notice.

Policies and practices for storing, retrieving, accessing, retaining, and disposing of records in the system:

Storage:

Electronic storage media.

Retrievability:

Name, SSN (last four) or DoD ID number.

Safeguards:

DoD Components and approved users ensure that electronic records collected and used are maintained in controlled areas accessible only to authorized personnel. Physical security differs from site to site, but the automated records must be maintained in controlled areas accessible only by authorized personnel. Access to computerized data is restricted by use of common access cards (CACs) and is accessible only by users with an authorized account. The system and electronic backups are maintained in controlled facilities that employ physical restrictions and safeguards such as security guards, identification badges, key cards, and locks.

Retention and disposal:

Permanent. Keep until individual's final deployment is terminated and then retire to the Army Electronic Archives (AEA). The AEA will transfer to the National Archives when the record is 25 years old.

System manager(s) and address:

Product Director, Army Human Resource System, 200 Stovall Street, Room 8N09, ATTN: SFAE-PS-IP-HR, Alexandria, VA 22332-6202.

Notification procedure:

Individuals seeking to determine whether information about themselves is contained in this system should address written inquiries to APM, Army Human Resource System, 200 Stovall Street, Room 8N09, ATTN: SFAE-PS-IP-HR, Alexandria, VA 22332-6202.

Requests should contain the individuals' full name, SSN (last four) or DoD ID number, current address, telephone number and signature.

In addition, the requester must provide a notarized statement or an unsworn declaration made in accordance with 28 U.S.C. 1746, in the following format:

If executed outside the United States:

‘I declare (or certify, verify, or state) under penalty of perjury under the laws of the United State of America that the foregoing is true and correct. Executed on (date). (Signature)'.

If executed within the United States, its territories, possessions, or commonwealths:

‘I declare (or certify, verify, or state) under penalty of perjury that the foregoing is true and correct. Executed on (date). (Signature)'.

Record access procedures:

Individuals seeking access to information about themselves contained in this system should address written inquiries to APM, Army Human Resource System, 200 Stovall Street, Room 8N09, ATTN: SFAE-PS-IP-HR, Alexandria, VA 22332-6202.

Requests should contain the individuals' full name, SSN (last four) or DoD ID number, current address, telephone number and signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)'.

If executed within the United States, its territories, possessions, or commonwealths:

‘I declare (or certify, verify, or state) under penalty of perjury that the foregoing is true and correct. Executed on (date). (Signature)'.

Contesting record procedures:

The Army's rules for accessing records, and for contesting contents and appealing initial agency determinations are contained in Army Regulation 340-21; 32 CFR part 505; or may be obtained from the system manager.

Record source categories:

Defense Enrollment Eligibility Reporting Systems (DEERS), Synchronized Predeployment and Operational Tracker Enterprise Suite (SPOT-ES), and Electronic Military Personnel Office (eMILPO) systems of records.

Exemptions claimed for the system:

None.

[FR Doc. 2014-04150 Filed 2-25-14; 8:45 am]

BILLING CODE 5001-06-P